DEPARTMENT OF DEFENSE

Department of the Army

[Docket No. USA-2007-0022]

Submission for OMB Review; Comment Request

ACTION: Notice.

The Department of Defense has submitted to OMB for clearance, the following proposal for collection of information under the provisions of the Paperwork Reduction Act (44 U.S.C. Chapter 35).

DATES: Consideration will be given to all comments received by January 22, 2008.

Title, Form, and OMB Number: Vessel Operation Report; ENG Form 3926; OMB Control Number 0710-0005.

Type of Request: Extension.

Number of Respondents: 470.

Responses Per Respondent: 12.

Annual Responses: 5,640.

Average Burden Per Response: .4557 hours.

Annual Burden Hours: 2,570.

Needs and Uses: The Corps of Engineers uses the ENG Form 3926 in conjunction with ENG Forms 3925, 3925B, and 3925P as the basic source of input to conduct the Waterborne Commerce Statistics data collection program. ENG Form 3926 is used as a quality control instrument by comparing the data collected on the Vessel Operation Report with that collected on the 3926. The information is voluntarily submitted by respondents to assist the Waterborne Commerce Statistics Center in the identification of vessel operators who fail to report significant vessel moves and tonnage.

Affected Public: Business or other for-profit.

Frequency: Monthly.

Respondent's Obligation: Voluntary.

OMB Desk Officer: Mr. Jim Laity.

Written comments and recommendations on the proposed information collection should be sent to Mr. Laity at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: December 14, 2007.
Patricia L. Toppings,
Alternate OSD Federal Register Liaison Officer, Department of Defense.

[FR Doc. E7-24830 Filed 12-20-07; 8:45 am]

BILLING CODE 5001-06-P